DEPARTMENT OF ENERGY

Federal Energy Regulatory Commission

City of Broken Bow, Oklahoma; Project No. 12470-001—Oklahoma Broken Bow Re-Regulation Dam Hydropower Project; Notice of Revised Restricted Service List for a Programmatic Agreement for Managing Properties Included in or Eligible for Inclusion in the National Register of Historic Places

July 8, 2010.

On June 8, 2010, the Federal Energy Regulatory Commission (Commission) issued notice of a proposed restricted service list for the preparation of a programmatic agreement for managing properties included in, or eligible for inclusion in, the National Register of Historic Places at the Broken Bow Re-Regulation Dam Hydroelectric Project No. 12470. Rule 2010(d)(1) of the Commission's Rules of Practice and Procedure, 18 CFR section 385.2010 (2009), provides for the establishment of such a list for a particular phase or issue in a proceeding to eliminate unnecessary expense or improve administrative efficiency. Under Rule 2010(d)(4), persons on the official service list are to be given notice of any proposal to establish a restricted service list and an opportunity to show why they should also be included on the restricted service list or why a restricted service list should not be established.

On June 23, 2010, Southwestern Power Administration filed a response to the notice requesting that it be included in the development of the programmatic agreement. On July 2, 2010, the Commission staff received a telephone request from the Oklahoma State Historic Preservation Office (Oklahoma SHPO) that the Caddo Nation be included in the development of the programmatic agreement.

Under Rule 2010(d)(2), any restricted service list will contain the names of each person on the official service list, or the person's representative, who, in the judgment of the decisional authority establishing the list, is an active participant with respect to the phase or issue in the proceeding for which the list is established. Southwestern Power Administration and the Oklahoma SHPO on behalf of the Caddo Nation have identified an interest in issues relating to the management of historic properties at the project. Therefore, they and their representatives will be added to the restricted service list.

Accordingly, the restricted service list issued on June 8, 2010, for the Broken Bow Re-Regulation Dam Hydroelectric Project No. 12470 is revised to add the following persons:

Robert Cast, Tribal Historic Preservation Officer, Caddo Nation, P.O. Box 487, Binger, OK 73009.

Steven A. Porter, U.S. Department of Energy, 1000 Independence Avenue, SW., 6D-033/FORS, Washington, DC 20585.

James K. McDonald, Southwestern Power Administration, One West Third Street, Suite 1522, Tulsa, OK 74103-3539.

Laurence J. Yadon, II, Southwestern Power Administration, One West Third Street, Suite 1522, Tulsa, OK 74103-3539.

Kimberly D. Bose,
Secretary.

[FR Doc. 2010-17157 Filed 7-13-10; 8:45 am]

BILLING CODE 6717-01-P